DEPARTMENT OF STATE

22 CFR Part 51

[Public Notice: 9360]

RIN 1400-AD83

Passports: Official Passports for Officials or Employees of State, Local, Tribal or Territorial Governments Traveling Abroad and Carrying Out Official Duties in Support of the U.S. Government

AGENCY: Department of State.

ACTION: Final rule.

SUMMARY: The Department of State finalizes its amendment of the passport rules for issuance of an official passport to an official or employee of a state, local, tribal, or territorial government traveling abroad to carry out official duties in support of the U.S. government.

DATES: Effective February 9, 2016.

FOR FURTHER INFORMATION CONTACT: Alice Kottmyer, Attorney-Adviser, kottmyeram@state.gov, 202-647-2318.

SUPPLEMENTARY INFORMATION: This rule was published as an interim rule on May 15, 2015 (80 FR 27856), with a 60-day period for public comments. No public comments were received.

As explained in the interim final rule, 22 CFR 51.3(b) provides that an “official passport” may be issued to: An official or employee of the U.S. government traveling abroad to carry out official duties; spouses and family members of such persons; and, when authorized by the Department of State, U.S. government contractors traveling abroad to carry out official duties on behalf of the U.S. government.

Increasingly, the federal government utilizes officials or employees of state, local, tribal, and territorial governments in support of federal activities, both domestically and overseas, such as the Federal Bureau of Investigation's Joint Terrorism Task Force. When required to travel internationally in support of such federal activities, these individuals are not currently eligible for official passports. Issuance of an official passport to such individuals signifies to foreign governments that they are carrying out official duties in support of the U.S. government. The activities undertaken by these officials are often of pressing national security, law enforcement, or humanitarian importance and occur with little advance notice. It is in the U.S. government's interest to provide these individuals the travel documents necessary to allow them to travel in a timely manner.

Under 22 U.S.C. 211a et seq., the Secretary of State has the authority to make rules for the granting and issuance of passports. The Department is amending section 51.3(b) of 22 CFR to authorize issuing official passports to an official or employee of a state, local, tribal, or territorial government traveling abroad to carry out official duties in support of the U.S. government.

Regulatory Findings

The Regulatory Findings included in the interim final rule are incorporated herein.

List of Subjects in 22 CFR Part 51

Passports.

Accordingly, the interim rule amending 22 CFR part 51 which was published at 80 FR 27857 on May 15, 2015, is adopted as a final rule without change.

Patrick F. Kennedy,
Under Secretary for Management.

[FR Doc. 2016-02576 Filed 2-8-16; 8:45 am]

BILLING CODE 4710-13-P